DEPARTMENT OF ENERGY

[OE Docket No. EA-191-B]

Application To Export Electric Energy; Sempra Energy Trading Corp.

AGENCY: Office of Electricity Delivery and Energy Reliability, DOE.

ACTION: Notice of application.

SUMMARY: Sempra Energy Trading Corporation (SET) has applied to renew for a term of five years its authority to transmit electric energy from the United States to Canada pursuant to section 202(e) of the Federal Power Act.

DATES: Comments, protests or requests to intervene must be submitted on or before March 6, 2006.

ADDRESSES: Comments, protests or requests to intervene should be addressed as follows: Office of Electricity Delivery & Energy Reliability, Mail Code: OE-20, U.S. Department of Energy, 1000 Independence Avenue, SW., Washington, DC 20585-0350 (fax 202-586-5860).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On January 19, 2001, the Department of Energy (DOE) authorized SET to transmit electric energy from the United States to Canada as a power marketer. That authorization expired on November 10, 2005. On November 23, 2005, SET filed an application with DOE for renewal of this export authority and requested that the authorization be granted for an additional 5-year term.

SET would arrange for the delivery of the exported energy to Canada over the international transmission facilities owned by Basin Electric Power Cooperative, Booneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Co.

The construction, operation, maintenance, and connection of each of the international transmission facilities to be utilized by SET has previously been authorized by a Presidential permit issued pursuant to Executive Order 10485, as amended.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the SET application to export electric energy to Canada should be clearly marked with Docket EA-191-B. Additional copies are to be filed directly with Michael A. Goldstein, Esq., Senior Vice President & General Counsel, Sempra Energy Trading Corp., 58 Commerce Road, Stamford, CT 06902.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.electricity.doe.gov. Upon reaching the Home page, select “Divisions,” then “Permitting Siting & Analysis,” then “Electricity Imports/Exports,” and then “Pending Proceedings” from the options menus.

Issued in Washington, DC, on January 30, 2006.
Anthony J. Como,
Director, Permitting and Siting, Office of Electricity Delivery and Energy Reliability.

[FR Doc. E6-1471 Filed 2-2-06; 8:45 am]

BILLING CODE 6450-01-P